DEPARTMENT OF HOMELAND SECURITY

Coast Guard

[CGD01-04-093]

Notice, Request for Comments; Letter of Recommendation, LNG Facility Weavers Cove, Fall River, MA

AGENCY: Coast Guard, DHS.

ACTION: Notice and request for comments.

SUMMARY: In accordance with the requirements in 33 CFR 127.009, the U.S. Coast Guard Captain of the Port (COTP) Providence is preparing a letter of recommendation as to the suitability of the Narragansett Bay waterways for liquefied natural gas (LNG) marine traffic. The letter of recommendation is in response to a Letter of Intent to operate a LNG facility at Weavers Cove, Fall River, Massachusetts. The COTP Providence is seeking comments and related material pertaining specifically to the maritime operation and waterways management aspects of the proposed LNG facility. In preparation for issuance of the letter of recommendation, the COTP Providence will consider comments received from the public, as well as information submitted by the owner or operator under the requirements of 33 CFR 127.007. Specific items suitable for comment are listed later in this notice under Background and Purpose.

DATES: Comments and related material must reach the Coast Guard on or before November 1, 2004.

ADDRESSES: The Commanding Officer, U.S. Coast Guard Marine Safety Office Providence maintains the public docket for this notice. Comments and documents will become part of this docket and will be available for inspection and copying at the same address between 8 a.m. and 3 p.m. Monday through Friday, except Federal holidays. You may submit comments and related material by:

(1) Mail or delivery to Commanding Officer, U.S. Coast Guard Marine Safety Office, 20 Risho Avenue, East Providence, RI, 02914-1208.

(2) Fax to (401) 435-2399

(3) Electronically via e-mail at EleBlanc@msoprov.uscg.mil.

FOR FURTHER INFORMATION CONTACT: If you have questions on this notice, call Mr. Edward G. LeBlanc at Coast Guard Marine Safety Office Providence, RI, (401) 435-2351. For assistance using the FERC internet Web site we reference, please contact FERC online support at FERCOnlineSupport@ferc.gov or toll free at 1-866-208-3676, or for TTY contact 1-202-502-8659.

SUPPLEMENTARY INFORMATION:

Request for Comments

We encourage you to submit comments and related material pertaining specifically to the maritime operation and waterways management aspects of the proposed LNG facility. If you do so, please include your name and address, identify the docket number for this notice (CGD01-04-093), and give the reason for each comment. You may submit your comments and material by mail, hand delivery, fax, or electronic means, as described in ADDRESSES, but please submit your comments and material by only one means.

If you submit them by mail or hand delivery, submit them in an unbound format, no larger than 8½ by 11 inches, suitable for copying and electronic filing. If you submit them by mail and would like to know that they reached U.S. Coast Guard Marine Safety Office Providence, please enclose a stamped, self-addressed postcard or envelope. We will consider all comments and material received during the comment period. The recommendation made by this office may be affected by comments received.

Public Meeting

We do not now plan to hold a public meeting solely for the preparation of a Letter of Recommendation, but you may submit a request for one to U.S. Coast Guard Marine Safety Office Providence at the address under ADDRESSES explaining why one would be beneficial. If we determine that a public meeting would aid the recommendation process, we will hold one or more at a time and place announced by a later notice in the Federal Register. We will be participating as a cooperating agency in public meetings sponsored by the Federal Energy Regulatory Commission (FERC), as outlined in the next paragraph.

The FERC is the lead Federal agency responsible for authorizing the siting and construction of onshore LNG facilities under Section 3 of the Natural Gas Act (NGA) (15 U.S.C. 717 et seq). FERC also authorizes the construction and operation of interstate natural gas pipelines that may be associated with LNG facilities under section 7 of the NGA. The FERC conducts environmental, safety, and security reviews of LNG plants and related pipeline facilities, and as the lead Federal agency prepared the overall National Environmental Policy Act (NEPA) documentation (18 CFR part 380). As required by NEPA, FERC issued a draft Environmental Impact Statement (EIS) in August 2004 (FERC/EIS-0169D). Publication of the Weaver's Cove LNG draft EIS was announced on pages 47920 to 47921 of Federal Register Volume 69, No. 151, dated Friday, August 6, 2004. As stated in that announcement, FERC intends to hold two public meetings. The location and times for these meetings are listed below:

September 8, 2004, 7 p.m. (e.s.t.): Venus de Milo Restaurant, 75 GAR Highway, Swansea, MA 02777, (508) 678-3901.

September 9, 2004, 7 p.m. (e.s.t.): Gaudet Middle School, 1113 Aquidneck Avenue, Middletown, RI 02842, (401) 846-6395.

These meetings are also posted on FERC's calendar at http://www.ferc.gov/EventCalendar/Eventslist.aspx along with other related material. Comments received at these public meetings, which are related specifically to maritime operation and waterways management issues surrounding the proposed LNG facility, will be considered by the Coast Guard in the Letter of Recommendation process.

Background and Purpose

Although FERC is the lead Federal agency for authorizing the siting and construction of onshore LNG facilities, the Coast Guard is responsible for navigation safety issues related to LNG ship deliveries. The FERC authorization process and the Coast Guard Letter of Recommendation process are two separate and distinct processes, although related in that they both pertain to the Weaver's Cove Energy LNG proposal. In accordance with the requirements of 33 CFR 127.009, the U.S. Coast Guard COTP Providence is preparing a Letter of Recommendation as to the suitability of Narragansett Bay and the Taunton River to accommodate LNG marine traffic. The Letter of Recommendation is in response to a Letter of Intent submitted on May 12, 2004, by Weaver's Cove Energy, L.L.C. and Mill River Pipeline, L.L.C. collectively referred to as Weaver's Cove Energy, in accordance with 33 CFR 127.007 to operate a LNG facility at Weaver's Cove, Fall River, MA.

Weaver's Cove Energy's proposed facilities would transport up to 800 million cubic feet per day (MMcfd) of imported natural gas to the U.S. market. The proposed LNG terminal would include a ship unloading facility with a single berth capable of receiving LNG ships with cargo capacities of up to 145,000 cubic meters (m³) of natural gas. The Coast Guard COTP Providence's Letter of Recommendation will address the suitability of Narragansett Bay and the Taunton River to accommodate LNG vessels with a capacity of up to 145,000 cubic meters. Specifically, the Letter of Recommendation will address the suitability of the waterway for LNG marine traffic based on:

• The physical location of the facility.

• A description of the facility.

• The LNG vessels' characteristics and the frequency of LNG shipments to or from the facility.

• Charts showing waterway channels and identifying commercial, industrial, environmentally sensitive, and residential areas in and adjacent to the waterway used by the LNG vessels en route to the facility, within 25 kilometers of the facility.

• Density and character of marine traffic in the waterways.

• Locks, bridges, or other manmade obstructions in the waterway.

• Depth of water.

• Tidal range.

• Protection from the high seas.

• Natural hazards, including reefs, rocks, and sandbars.

• Underwater pipelines and cables.

• Distance of berthed vessel from the channel, and the width of the channel.

As stated above, the Letter of Recommendation process is independent of and separate from, although related to, the Federal permitting process for which FERC is the lead agency. Any permit that may be issued by FERC will require, as a condition of final approval, that Weaver's Cove Energy obtain a Letter of Recommendation from the U.S. Coast Guard COTP Providence.

Additional Information

Additional information about the Weaver's Cove LNG project is available from FERC's Office of External Affairs at 1-866-208-FERC or on the FERC internet Web site (http://www.ferc.gov) using their eLibrary link. Click on the eLibrary link, then click on “General Search” and enter FERC's docket number excluding the last three digits in the Docket Number field (i.e., CP04-36). For assistance, please contact FERC online support at FERCOnlineSupport@ferc.gov or toll free at 1-866-208-3676, or for TTY contact 1-202-502-8659.

Dated: August 25, 2004.
M. E. Landry,
Captain, U.S. Coast Guard, Captain of the Port, Providence.

[FR Doc. 04-19960 Filed 8-31-04; 8:45 am]

BILLING CODE 4910-15-P